DEPARTMENT OF HEALTH AND HUMAN SERVICES

Public Meeting of the Presidential Commission for the Study of Bioethical Issues

AGENCY: Presidential Commission for the Study of Bioethical Issues, Office of the Assistant Secretary for Health, Office of the Secretary, Department of Health and Human Services.

ACTION: Notice of meeting.

SUMMARY: The Presidential Commission for the Study of Bioethical Issues (the Commission) will conduct its twenty-sixth meeting on August 31, 2016. At this meeting, the Commission will reflect on the past, present, and future impact of national bioethics advisory bodies. Topics will include the history of national bioethics advisory bodies and their contributions to health policy, perspectives about similar bodies elsewhere, and discussion about what the future holds for groups like the Commission.

DATES: The meeting will take place August 31, 2016, from 9 a.m. to approximately 4 p.m.

ADDRESSES: Annenberg Public Policy Center, 202 S. 36th St., Philadelphia, PA 19104.

FOR FURTHER INFORMATION CONTACT: Lisa M. Lee, Executive Director, Presidential Commission for the Study of Bioethical Issues, 330 C Street SW., Suite L001, Washington, DC 20201. Telephone: 202-795-7689. Email: Lisa.Lee@bioethics.gov. Additional information may be obtained at www.bioethics.gov.

SUPPLEMENTARY INFORMATION: Pursuant to the Federal Advisory Committee Act of 1972, Public Law 92-463, 5 U.S.C. app. 2, notice is hereby given of the twenty-sixth meeting of the Commission. The meeting will be open to the public with attendance limited to space available. The meeting will also be webcast at www.bioethics.gov.

Under authority of Executive Order 13521, dated November 24, 2009, the President established the Commission. The Commission is an expert panel of not more than 13 members who are drawn from the fields of bioethics, science, medicine, technology, engineering, law, philosophy, theology, or other areas of the humanities or social sciences. The Commission advises the President on bioethical issues arising from advances in biomedicine and related areas of science and technology. The Commission seeks to identify and promote policies and practices that ensure scientific research, health care delivery, and technological innovation are conducted in a socially and ethically responsible manner.

The main agenda for the Commission's twenty-sixth meeting is to reflect upon the role of national bioethics advisory bodies, both in the US and abroad, in the past, present, and future.

The Commission welcomes input from anyone wishing to provide public comment on any issue before it. Respectful consideration of opposing views and active participation by citizens in public exchange of ideas enhances overall public understanding of the issues at hand and conclusions reached by the Commission. The Commission is particularly interested in receiving comments and questions during the meeting that are responsive to specific sessions. Written comments will be accepted in advance, during, and after the meeting and are especially welcome. Comments will be publicly available, including any personally identifiable or confidential business information that they contain. Trade secrets should not be submitted.

Written comments will be accepted by email to info@bioethics.gov, or by mail to the following address: Public Commentary, Presidential Commission for the Study of Bioethical Issues, 330 C Street SW., Suite L001, Washington, DC 20201. To accommodate as many individuals as possible, the time for each question or comment may be limited. If the number of individuals wishing to pose a question or make a comment is greater than can reasonably be accommodated during the scheduled meeting, the Commission may make a random selection. Time permitting, we will read aloud as many comments as possible.

Anyone planning to attend the meeting who needs special assistance, such as sign language interpretation or other reasonable accommodations, should notify Esther Yoo by telephone at (202) 795-7689, or email at Esther.Yoo@bioethics.gov at least one week in advance of the meeting. The Commission will make every effort to accommodate persons who need special assistance.

Dated: July 8, 2016.
Lisa M. Lee,
Executive Director, Presidential Commission for the Study of Bioethical Issues.

[FR Doc. 2016-17620 Filed 7-25-16; 8:45 am]

BILLING CODE 4154-06-P